DEPARTMENT OF HEALTH AND HUMAN SERVICES

Indian Health Service

Indian Health Professions Preparatory, Indian Health Professions Pregraduate and Indian Health Professions Scholarship Programs

Overview Information: Indian Health Professions Preparatory, Indian Health Professions Pregraduate and Indian Health Professions Scholarship Programs.

Announcement Type: Initial.

CFDA Numbers: 93.971, 93.123, and 93.972.

Key Dates:

Application Deadline: May 7, 2012, for continuing students.

Application Deadline: May 7, 2012, for new students.

Application Review: May 21-25, 2012.

Application Notification: First week of July, 2012.

Award Start Date: August 1, 2012.

I. Funding Opportunity Description

The Indian Health Service (IHS) is committed to encouraging American Indians and Alaska Natives to enter the health professions and to assuring the availability of Indian health professionals to provide health care services to Indians. The IHS is committed to the recruitment of students for the following programs:

• The Indian Health Professions Preparatory Scholarship authorized by section 103 of the Indian Health Care Improvement Act (IHCIA), Public Law 94-437 (1976).

• The Indian Health Professions Pre-graduate Scholarship authorized by section 103 of the IHCIA, Public Law 94-437 (1976).

• The Indian Health Professions Scholarship authorized by section 104 of the IHCIA, Public Law 94-437 (1976).

Full-time and part-time scholarships will be funded for each of the three scholarship programs.

The scholarship award selections and funding are subject to availability of funds appropriated for the Scholarship Program.

II. Award Information

Awards under this initiative will be administered using the grant mechanism of the IHS.

Estimated Funds Available: An estimated $14.0 million will be available for FY 2012 awards. Of this estimated $14.0 million in funding, no more than $1.0 million will be set aside for Preparatory and Pre-graduate Scholarships, with the remaining balance to be used toward Health Professions Scholarships. The IHS program anticipates, but cannot guarantee, due to possible funding changes, student scholarship selections from any or all of the following disciplines in the 103, 103P and 104 Programs for the Scholarship Period 2012-2013. Due to the rising cost of education and the decreasing number of scholars who can be funded by the IHS Scholarship Program (IHSSP), the IHSSP has changed the funding policy for Preparatory and Pre-graduate scholarship awards and reallocated a greater percentage of its funding in an effort to increase the number of Health Professions scholarships, and inherently the number of service obligated scholars, to better meet the health care provider needs of the IHS and its Tribal and Urban Indian health care system partners.

Anticipated Number of Awards: Approximately 25 awards will be made under the Health Professions Preparatory and Pre-graduate Scholarship Programs for Indians. The awards are for tuition and fees only and the average award to a full-time student is approximately $10,701.35. An estimated 280 awards will be made under the Indian Health Professions Scholarship Program. The awards are for 12 months in duration, and will cover both tuition and fees and Other Related Costs (ORC). The average award to a full-time student is approximately $48,056.05. In FY 2012, an estimated $9,500,000 is available for continuation awards, and an estimated $3,500,000 is available for new awards.

Project Period—The project period for the IHS Health Professions Preparatory Scholarship support, tuition and fees only, is limited to two years for full-time students and the part-time equivalent of two years, not to exceed four years for part-time students. The project period for the Health Professions Pre-graduate Scholarship support, tuition and fees only, is limited to four years for full-time students and the part-time equivalent of four years, not to exceed eight years for part-time students.

The IHS Indian Health Professions Scholarship support, tuition, fees and Other Related Costs (ORC) is limited to four years for full-time students and the part-time equivalent of four years, not to exceed eight years for part-time students.

III. Eligibility Information

This announcement is a limited competition for awards made to American Indians (Federally recognized Tribal members, state recognized Tribal members, and first and second degree descendants of Federal or state recognized Tribal members), or Alaska Natives only. Continuation awards are non-competitive.

1. Eligible Applicants

The Health Professions Preparatory Scholarship awards are made to American Indians (Federally recognized Tribal members, first and second degree descendants of Tribal members, and state recognized Tribal members, first and second degree descendants of Tribal members), or Alaska Natives who:

• Have successfully completed high school education or high school equivalency; and

• Have been accepted for enrollment in a compensatory, pre-professional general education course or curriculum; and

The Health Professions Pre-graduate Scholarship awards are made to American Indians (Federally recognized Tribal members, first and second degree descendants of Tribal members, and state recognized Tribal members, first and second degree descendants of Tribal members), or Alaska Natives who:

• Have successfully completed high school education or high school equivalency; and

• Have been accepted for enrollment or are enrolled in an accredited pre-graduate program leading to a baccalaureate degree in pre-medicine, pre-dentistry, or pre-podiatry.

The Indian Health Professions Scholarship may be awarded only to an individual who is a member of a Federally recognized Indian Tribe or Alaska Native as provided by section 4(c), and 4(d) of the IHCIA. Membership in a Tribe recognized only by a state does not meet this statutory requirement. To receive an Indian Health Professions Scholarship, an otherwise eligible individual must be enrolled in an appropriately accredited school and pursuing a course of study in a health profession as defined by section 4(10) of the IHCIA.

2. Cost Sharing/Matching

The Scholarship Program does not require matching funds or cost sharing to participate in the competitive grant process.

3. Benefits from State, Local and Other Federal Sources

Awardees of the Health Professions Preparatory or Health Professions Pre-graduate scholarship may accept outside funding from other scholarship, grant, fee waiver and student loan programs to assist with their education and other related expenses. Awardees of the Health Professions scholarship, who accept outside funding from other scholarship, grant and fee waiver programs, will have these monies applied to their student account tuition and fees charges at the college or university they are attending, before the IHS Scholarship Program will pay any of the remaining balance. These outside funding sources must be reported on the student's invoicing documents submitted by the college or university they are attending. Student loans accepted by Health Professions scholarship recipients will have no effect on the IHS Scholarship program payment made to their college or university.

IV. Application Submission Information

1. Address To Request Application Package

New applicants are responsible for contacting and requesting an application packet from their IHS Area Scholarship Coordinator. They are listed on the IHS Web site at http://www.scholarship.ihs.gov/area_coordinators.cfm.

This information is also listed below. Please review the following list to identify the appropriate IHS Area Scholarship Coordinator for your State. Application packets may be obtained by calling or writing to the following individuals listed below:

IHS Area office and States/locality served | Scholarship coordinator/address
Aberdeen Area IHS:
Iowa, Nebraska, North Dakota, South Dakota | Ms. Kim Annis, IHS Area Scholarship Coordinator, Aberdeen Area IHS, 115 4th Avenue SE., Aberdeen, SD 57401, Tele: (605) 226-7466.
Alaska Native Tribal Health Consortium:
Alaska | Ms. Courtney Bridges, Alternate: Ms. Tasha Hotch, IHS Area Scholarship Coordinator, 4000 Ambassador Drive, Anchorage, AK 99508, Tele: (907) 729-1913, 1-800-684-8361 (toll free).
Albuquerque Area IHS:
Colorado, New Mexico | Ms. Cora Boone, IHS Area Scholarship Coordinator, Albuquerque Area IHS, 5300 Homestead Road, NE., Albuquerque, NM 87110, Tele: (505) 248-4418, 1-800-382-3027 (toll free).
Bemidji Area IHS:
Illinois, Indiana, Michigan, Minnesota, Wisconsin | Mr. Tony Buckanaga, IHS Area Scholarship Coordinator, Bemidji Area IHS, 522 Minnesota Avenue NW., Room 209, Bemidji, MN 56601, Tele: (218) 444-0486, 1-800-892-3079 (toll free).
Billings Area IHS:
Montana, Wyoming | Mr. Delon Rock Above, Alternate: Ms. Bernice Hugs, IHS Area Scholarship Coordinator, Billings Area IHS, Area Personnel Office, P.O. Box 36600, 2900 4th Avenue, North, Suite 400, Billings, MT 59103, Tele: (406) 247-7215.
California Area IHS:
California, Hawaii | Ms. Mona Celli, IHS Area Scholarship Coordinator, California Area IHS, 650 Capitol Mall, Suite 7-100, Sacramento, CA 95814, Tele: (916) 930-3981, ext. 311.
Nashville Area IHS:
Alabama, Arkansas, Connecticut, Delaware, Florida, Georgia, Kentucky, Louisiana, Maine, Maryland, Massachusetts, Mississippi, District of Columbia, New Hampshire, New Jersey, New York, North Carolina, Ohio, Pennsylvania, Rhode Island, South Carolina, Tennessee, Vermont, Virginia, West Virginia | Ms. Michelle Marshalek, IHS Area Scholarship Coordinator, Nashville Area IHS, 711 Stewarts Ferry Pike, Nashville, TN 37214, Tele: (615) 467-1505.
Navajo Area IHS:
Arizona, New Mexico, Utah | Ms. Aletha John, IHS Area Scholarship Coordinator, Navajo Area IHS, P.O. Box 9020, Wndow Rock, AZ 86515, Tele: (928) 871-1360.
Oklahoma City Area IHS:
Kansas, Missouri, Oklahoma | Mr. Keith Bohanan, IHS Area Scholarship Coordinator, Oklahoma City Area IHS, 701 Market Drive, Oklahoma City, OK 73114, Tele: (405) 951-3789, 1-800-722-3357 (toll free).
Phoenix Area IHS:
Arizona, Nevada, Utah | Ms. Trudy Begay, IHS Area Scholarship Coordinator, Phoenix Area IHS, Suite 510, 40 North Central Avenue, Phoenix, AZ 85004, Tele: (602) 364-5256.
Portland Area IHS:
Idaho, Oregon, Washington | Ms. Laurie Veitenheimer, IHS Area Scholarship Coordinator, Portland Area IHS, 1414 NW Northrup Street, Suite 800, Portland, OR 97209, Tele: (503) 326-6983.
Tucson Area IHS:
Arizona, Texas | Ms. Trudy Begay (See Phoenix Area).

2. Content and Form Submission

Each applicant will be responsible for submitting a completed application (Forms IHS-856-1 through 856-6) and one copy to the: IHS Scholarship Program Branch Office, 801 Thompson Ave, Suite 450 (TMP), Rockville, MD 20852. Electronic applications are being accepted for this cycle. Go to www.scholarship.ihs.gov for more information on how to apply electronically. The on-line portal will be open on December 12, 2011. The application will be considered complete if the following documents (original and one copy) are included;

a. Completed and signed application Checklist.

b. Original, signed, complete application form IHS-856 (for continuation students-Data Sheet in place of IHS-856).

c. Current Letter of Acceptance from College/University or Proof of Application to a College/University or Health Professions Program.

d. Official transcripts for all colleges/universities attended (or high school transcripts or Certificate of Completion of Home School Program for applicants who have not taken college courses).

e. Cumulative GPA: Applicant's calculations.

f. Applicant's Documents for Indian Eligibility.

i. If you are a member of a Federally recognized Tribe or Alaska Native (recognized by the Secretary of the Interior), provide evidence of membership such as:

1. Certification of Tribal enrollment by the Secretary of the Interior, acting through the Bureau of Indian Affairs (BIA Certification: Form 4432-Category A or D, whichever is applicable); or

2. In the absence of BIA certification, documentation that you meet requirements of Tribal membership as prescribed by the charter, articles of incorporation or other legal instrument of the Tribe and have been officially designated as a Tribal member as evidenced by an accompanying document signed by an authorized Tribal official, or

3. Other evidence of Tribal membership satisfactory to the Secretary of the Interior.

ii. If you are a member of a Tribe terminated since 1940 or a State recognized Tribe and first or second degree descendant, provide official documentation that you meet the requirements of Tribal membership as prescribed by the charter, articles of incorporation or other legal instrument of the Tribe and have been officially designated as a Tribal member as evidenced by an accompanying document signed by an authorized Tribal official; or other evidence, satisfactory to the Secretary of the Interior, that you are a member of the Tribe. In addition, if the terminated or state recognized Tribe of which you are a member is not on a list of such Tribes published by the Secretary of the Interior in the Federal Register, you must submit an official signed document that the Tribe has been terminated since 1940 or is recognized by the state in which the Tribe is located in accordance with the law of that state.

iii. If you are not a Tribal member but are a natural child or grandchild of a Tribal member you must submit: (1) evidence of that fact, e.g., your birth certificate and/or your parent's/grandparent's birth/death certificate showing the name of the Tribal member; and (2) evidence of your parent's or grandparent's Tribal membership in accordance with paragraphs A and B. The relationship to the Tribal member must be clearly documented. Failure to submit the required documentation will result in the application not being accepted for review.

Note: If you meet the criteria of B or C, you are eligible only for the Preparatory or Pre-graduate Scholarships.

• Two Faculty/Employee Evaluations with original signature.

• Reasons for Requesting the Scholarship.

• Delinquent Debt Form.

• Course Curriculum Verification with original signature.

• Acknowledgement Card (if submitting a hard copy application).

• Curriculum for Major.

3. Submission Dates and Times

Application Receipt Date: The application deadline for New applicants is Monday, May 7, 2012.

Applications (original and one copy) shall be considered as meeting the deadline if they are received by the IHS Scholarship Program Branch Office, located in Rockville, Maryland, and postmarked on or before the deadline date. Applicants should request a legibly dated U.S. Postal Service postmark or obtain a legibly dated receipt from a commercial carrier or U.S. Postal Service. Private metered postmarks will not be acceptable as proof of timely mailing and will not be considered for funding. Once the application is received, the applicant will receive an “Acknowledgement of Receipt of Application” (IHS-815) card that is included in the application packet, if submitting a hard copy application. Applications received, with postmarks after the announced deadline date, will not be considered for funding.

4. Intergovernmental Review

Executive Order 12372 requiring intergovernmental review is not applicable to this program.

5. Funding Restrictions

No more than 5% of available funds will be used for part-time scholarships this fiscal year. Students are considered part-time if they are enrolled for a minimum of six hours of instruction and are not considered in full-time status by their college/university. Documentation must be received from part-time applicants that their school and course curriculum allows less than full-time status. Both part-time and full-time scholarship awards will be made in accordance with 42 CFR 136.320, 136.330 and 136.370 and this information will be published in all IHSSP Applications and Student Handbooks as they pertain to the Indian Health Service Scholarship Program.

6. Other Submissions Requirements

New applicants are responsible for using the online application or contacting and requesting an application packet from their IHS Area Scholarship Coordinator. Continuation students are also encouraged to use the online application process; however, the Division of Grants Management will also mail continuation students an application packet. If you do not receive this information, please contact your IHS Area Scholarship Coordinator or your IHS Scholarship Program Analyst to request a continuation application.

Continuing students must submit a complete application (original plus one copy) and meet the deadline of Monday, May 7, 2012; there will be no exceptions.

V. Application Review Information

1. Criteria

Applications will be reviewed and scored with the following criteria.

• Needs of the IHS (Health Personnel Needs in Indian Country)

Applicants are considered for scholarship awards based on their desired career goals and how these goals relate to current Indian health personnel needs. Applications for each health career category are reviewed and ranked separately.

• Academic Performance (40 Points)

Applicants are rated according to their academic performance as evidenced by transcripts and faculty evaluations. In cases where a particular applicant's school has a policy not to rank students academically, faculty members are asked to provide a personal judgment of the applicant's achievement. Health Professions applicants with a cumulative GPA below 2.0 are not eligible for award.

• Faculty/Employer Recommendations (30 Points)

Applicants are rated according to evaluations by faculty members, current and/or former employers and Tribal officials regarding the applicant's potential in the chosen health related professions.

• Stated Reasons for Asking for the Scholarship and Stated Career Goals (30 Points)

Applicants must provide a brief written explanation of reasons for asking for the scholarship and of their career goals. The applicant's narrative will be judged on how well it is written and its content.

• Applicants who are closest to graduation or completion of training are awarded first. For example, senior and junior applicants under the Health Professions Pre-graduate Scholarship receives funding before freshmen and sophomores.

• Priority Categories

The following is a list of health professions that will be considered for funding in each scholarship program in FY 2012.

• Indian Health Professions Preparatory Scholarships

A. Pre-Clinical Psychology (Jr. and Sr. undergraduate years).

B. Pre-Nursing.

C. Pre-Pharmacy.

D. Pre-Social Work (Jr. and Sr. preparing for an MS in social work).

• Indian Health Professions Pre-Graduate Scholarships

A. Pre-Dentistry.

B. Pre-Medicine.

C. Pre-Podiatry.

• Indian Health Professions Scholarship

A. Bio Medical Engineering—BS.

B. Bio Medical Technology—AAS.

C. Chemical Dependency Counseling—Master's Degrees.

D. Clinical Psychology—Ph.D. or Psy.D.

E. Dentistry: DDS or DMD degrees

F. Diagnostic Radiology Technology: Associates and B.S.

G. Environmental Health/Sanitarian: B.S.

H. Health Records Administration: R.H.I.T. and R.H.I.A.

I. Medical Technology: B.S.

J. Medicine: Allopathic and Osteopathic.

K. Nurse: Associate and Bachelor Degrees and advanced degrees in Psychiatry, Geriatrics, Women's Health, Pediatrics, Family Health, and Nurse Anesthetist.

(Priority consideration will be given to Registered Nurses employed by the IHS; in a program conducted under a contract or compact entered into under the Indian Self-Determination Act and Education Assistance Act (Pub. L. 93-638) and its amendments; or in a program assisted under Title V of the IHCIA.)

L. Occupational Therapy: B.S. or Masters.

N. Pharmacy: Pharm.D.

O. Physician Assistant: PA-C.

P. Physical Therapy: M.S. and D.P.T.

Q Podiatry: D.P.M.

R. Public Health Nutritionist: M.S.

S. Respiratory Therapy: BS Degree.

T. Social Work: Masters Level only (Direct Practice and Clinical concentrations).

U. Ultrasonography (Prerequisite: Diagnostic Radiology Technology).

2. Review and Selection Process

The applications will be reviewed and scored by the IHS Scholarship Program's Application Review Committee appointed by the IHS. Each reviewer will not be allowed to review an application from his/her Area or his/her own Tribe. Each application will be reviewed by three reviewers. The average score of the three reviews provide the final Ranking Score for each applicant. To determine the ranking of each applicant, these scores are sorted from the highest to the lowest within each scholarship section, health discipline, enrollment status, date of graduation, and score. If several students have the same date of graduation and score within the same discipline, computer ranking list will randomly sort and will not be sorted by alphabetical name. Selections are then made from the top of each ranking list to the extent that funds allocated by the IHS among the three scholarships are available for obligation.

VI. Award Administration Information

1. Award Notices

It is anticipated that continuing applicants will be notified in writing during the first week of June and new applicants will be notified in writing during the first week of July 2012. An Award Letter will be issued to successful applicants. Unsuccessful applicants will be notified in writing, which will include a brief explanation of the reasons the application was not successful and provide the name of the IHS official to contact if more information is desired.

2. Administrative and National Policy Requirements

Regulations at 42 CFR 136.304 provide that the IHS shall, from time to time, publish a list of health professions eligible for consideration for the award of IHS Indian Health Professions Preparatory and Health Professions Pre-graduate Scholarships and IHS Health Professions Scholarship. Section 104(b)(1) of the IHCIA, as amended by the Indian Health Care Amendment of 1988, Public Law 100-713, authorizes the IHS to determine specific health professions for which Indian Health Scholarships will be awarded.

Awards for the Indian Health Professions Scholarships will be made in accordance with 42 CFR 136.330.

Awardees shall incur a service obligation prescribed under section 338A of the Public Health Service Act (42 U.S.C. 2541) which shall be met by service, through clinical practice:

(1) In the IHS;

(2) In a program conducted under a contract or compact entered into under the Indian Self-Determination Act and Education Assistance Act (Pub. L. 93-638) and its amendments;

(3) In a program assisted under Title V of the Indian Health Care Improvement Act (Pub. L. 94-437) and its amendments; or

(4) In a private practice option of his or her profession (physicians, dentists, and clinical psychologists, only) if the practice (a) is situated in a health professional shortage area, designated in regulations promulgated by the Secretary of Health and Human Services (Secretary) and (b) addresses the health care needs of a substantial number (75%) of Indians as determined by the Secretary in accordance with guidelines of the Service. The percentage of substantial number of Indians was increased in FY 2012 due to the significant vacancies for health professionals in IHS, Tribal and urban Indian health programs and the need to demonstrate service to a more substantial number of Indians in the private practice option to warrant the choice of this option over options 1-3. This change will apply prospectively for new scholarship applicants only.

Pursuant to the Indian Health Amendments of 1992, (Pub. L. 102-573), an awardee of an IHS Health Professions Scholarship may, at the election of the awardee, meet his/her service obligation prescribed under section 338A of the Public Health Service Act (42 U.S.C. 2541) by a program specified in options (1)-(4) above that:

(i) Is located on the reservation of the Tribe in which the awardee is enrolled; or

(ii) Serves the Tribe in which the awardee is enrolled, if there is an open vacancy available in the discipline for which the awardee was funded under the IHS Health Professions Scholarship during the required 90-day placement period.

In summary, all awardees of the Indian Health Professions Scholarship are reminded that acceptance of this scholarship will result in a service obligation requirement that is supported both by statutes and contract, which must be performed at an approved service payback facility.

Moreover, the Director, IHS, has the authority to make the final determination, designating a facility, whether managed and operated by IHS, or one of its Tribal or Urban Indian partners, consistent with IHCIA, Public Law 94-437, as amended by Public Law 100-713, and Public Law 102-573, and Public Law 111-148 § 10221 (2010), as approved for scholar obligated service payback.

3. Reporting

Scholarship Program Minimum Academic Requirements

It is the policy of the IHS that a scholarship awardee funded under the Health Professions Scholarship Program of the Indian Health Care Improvement Act must maintain a 2.0 cumulative grade point average (GPA), remain in good academic standing each semester/trimester/quarter, maintain full-time student status (minimum number credit hours, based upon what is considered “full-time” by the applicant's school). In addition to these requirements, a Health Professions Scholarship program awardee must be enrolled in an approved/accredited school for a Health Professions degree. An awardee of a scholarship under the IHS Health Professions Pre-Graduate and Health Professions Preparatory Scholarship authority must maintain a minimum 2.0 cumulative grade point average (GPA), remain in good standing each semester/trimester/quarter and be a full time student (minimum of 12 credit hours or the number of credit hours considered by your school as full-time). Part-time students for the three scholarship programs must also maintain a 2.0 cumulative GPA and must take at least six credit hours (undergraduate) each semester/trimester/quarter, but less than the number of hours considered full-time by your school. Scholarship awardees must be approved for part-time status at the time of scholarship award. Scholarship awardees may not change from part-time status to full-time status or vice versa in the same academic year.

The following reports must be sent to the IHS Scholarship Program at the identified time frame. Each scholarship awardee will be provided with an IHS Scholarship Program Student Handbook where the needed reports are located. If a scholarship awardee fails to submit these reports as required, they will be ineligible for continuation of scholarship support and scholarship award payments will be discontinued.

A. Recipient's Enrollment and Initial Progress Report

Within thirty (30) days from the beginning of each semester/trimester/quarter, scholarship awardees must submit a Recipient's Enrollment and Initial Progress Report (Form IHS-856-8, page 69 of the Student Handbook).

B. Transcripts

Within thirty (30) days from the end of each academic period, i.e., semester/trimester/quarter, or summer session, scholarship awardees must submit an Official Transcript showing the results of the classes taken during that period.

C. Notification of Academic Problem/Change

If at any time during the semester/trimester/quarter, scholarship awardees are advised to reduce the number of credit hours for which they are enrolled below the minimum of the 12 (or the number of hours considered by their school as full-time) for a full-time student or at least six hours for part-time students; or if they experience academic problems, they must submit this report (Form IHS-856-9, page 71 of the Student Handbook).

D. Change of Status

• Change of Academic Status

Scholarship awardees must immediately notify the IHS Area Scholarship Coordinator and their Scholarship Program Analyst if they are placed on academic probation, dismissed from school, or voluntarily withdraw for any reason (personal or medical).

• Change of Health Discipline

Scholarship awardees may not change from the approved IHS Scholarship Program health discipline during the school year. If an unapproved change is made, scholarship payments will be discontinued.

• Change in Graduation Date

Any time that a change occurs in a scholarship awardee's expected graduation date, they must notify their IHS Area Scholarship Coordinator and their Scholarship Program Analyst immediately in writing. Justification must be attached from the school advisor.

VII. Agency Contacts

Please address application inquiries to the appropriate IHS Area Scholarship Coordinator. Other programmatic inquiries may be addressed to Dr. Dawn A. Kelly, Chief, Scholarship Program, 801 Thompson Avenue, Suite 120, Rockville, Maryland 20852; Telephone (301) 443-6622. (This is not a toll-free number). For grants information, contact the Grants Scholarship Coordinator, Division of Grants Management, Indian Health Service, 801 Thompson Avenue, TMP 360, Rockville, Maryland 20852; Telephone (301) 443-5204. (This is not a toll-free number).

VIII. Other Information

The Public Health Service (PHS) is committed to achieving the health promotion and disease prevention objectives of Healthy People 2020, a PHS-led activity for setting priority areas. This program announcement is related to the priority area of Education and Community-Based Programs. Potential applicants may download a copy of Healthy People 2020, at http://www.healthypeople.gov.

Interested individuals are reminded that the list of eligible health and allied professions is effective for applicants for the 2012-2013 academic year. These priorities will remain in effect until superseded. Applicants who apply for health career categories not listed as priorities during the current scholarship cycle will not be considered for a scholarship award.

Dated: April 4, 2012.
Randy Grinnell,
Deputy Director, Indian Health Service.

[FR Doc. 2012-8517 Filed 4-9-12; 8:45 am]

BILLING CODE 4165-16-P